GENERAL SERVICES ADMINISTRATION

41 CFR Part 301-30

[Notice-MA-2022-09; Docket No. 2022-0002; Sequence No. 21]

Federal Travel Regulation (FTR); Emergency Travel

AGENCY: Office of Government-wide Policy (OGP), General Services Administration (GSA).

ACTION: Notice of GSA Bulletin FTR 23-04, Emergency Travel.

SUMMARY: GSA Bulletin FTR 23-04 clarifies, highlights, and reminds agencies that they have the authority under the Federal Travel Regulation (FTR) to reimburse emergency travel expenses for employees on temporary duty travel (TDY) and en route relocation travel who are either incapacitated by illness or injury not due to their own misconduct.

DATES: Applicable: December 23, 2022.

FOR FURTHER INFORMATION CONTACT: For clarification of content, contact Jill Denning, Office of Government-wide Policy, Office of Asset and Transportation Management, at travelpolicy@gsa.gov. Please cite Notice of GSA Bulletin FTR 23-04.

SUPPLEMENTARY INFORMATION: Statutory authority at 5 U.S.C. 5702(b), as implemented at FTR § 301-30 and §§ 301-70.500 through 509, provide the requirements for emergency travel expense reimbursement, including under what conditions an employee may receive reimbursement for travel expenses in emergency situations, what travel expenses are allowed, and what the limitations are for payment of travel expenses. FTR Bulletin 23-04 reminds agencies that they may determine, consistent with case law, that events related to childbirth that occur while on TDY and en route relocation travel may be considered an “incapacitating illness or injury” for the purposes of emergency travel expense reimbursement. As with any situation involving interruption of travel due to illness or injury, each situation should be evaluated by the agency involved based upon the information available and agency policy to determine eligibility for reimbursement of emergency travel expenses enumerated at FTR § 301-30.4.

GSA Bulletin FTR 23-04 can be viewed in its entirety at https://www.gsa.gov/ftrbulletins.

Saul Japsen,
Acting Associate Administrator, Office of Government-wide Policy.

[FR Doc. 2022-27729 Filed 12-22-22; 8:45 am]

BILLING CODE 6820-14-P